DEPARTMENT OF JUSTICE

Notice of Lodging of Consent Decree Under the Comprehensive Environmental Response, Compensation, and Liability Act (CERCLA)

Notice is hereby given that on January 9, 2009, a proposed Consent Decree (Decree) in United States v. Citibank Global Market Holdings, Inc., Civil Action No. 09-CV-4002-SAC, was lodged with the United States District Court for the District of Kansas.

In this action the United States, on behalf of the U.S. Environmental Protection Agency, sought to recover CERCLA response costs from Citibank Global Holdings, Inc. and U.S. Steel Corporation. The costs were incurred for the National Zinc Superfund Site (Site) in Cherryvale, Kansas. The Complaint alleges that Defendants are liable as successors to owners or operators of a smelter that was located and operated at the Site. The Decree would settle the government's claim for past response costs in return for a total payment of $1 million into the Hazardous Substances Superfund.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Citibank Global Market Holdings, Inc., D.J. Ref. 90-11-3-08705/1.

The Decree may be examined at the Office of the United States Attorney, 1200 Epic Center, 301 N. Main, Wichita, Kansas 67202. During the public comment period, the Decree, may also be examined on the following Department of Justice Web site, to http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury or, if by e-mail or fax, forward a check in that amount to the Consent Decree Library at the stated address.

Robert E. Maher, Jr.,
Assistant Chief, Environmental Enforcement Section, Environment and Natural Resources Division.

[FR Doc. E9-709 Filed 1-14-09; 8:45 am]

BILLING CODE 4410-15-P